DEPARTMENT OF AGRICULTURE

Forest Service

Craig and Thorne Bay Ranger Districts, Tongass National Forest, Alaska; Prince of Wales Landscape Level Analysis Project Environmental Impact Statement

AGENCY: Forest Service, USDA.

ACTION: Corrected Notice of Intent to prepare an Environmental Impact Statement.

SUMMARY: The U.S. Department of Agriculture, Forest Service will prepare an Environmental Impact Statement (EIS) to propose a variety of projects for multiple resource benefits at a landscape level to implement over the course of 10 to 15 years. Both the Craig and Thorne Bay Ranger Districts encompass Prince of Wales Island (POW) and surrounding islands, which serves as the project area for the Prince of Wales Landscape Level Analysis (POW LLA) Project. Our intention is that this project will be a highly collaborative process involving the public at all stages throughout the development of this analysis. A Notice of Intent (NOI) for this project was first published in the Federal Register (81 FR 86320) on November 30, 2016. This Corrected NOI has been prepared to provide a more detailed description of the proposed action developed using comments from the public and stakeholders.

DATES: Comments concerning the scope of the analysis must be received by August 7, 2017. The publication date of this Corrected NOI in the Federal Register is the exclusive means for calculating the comment period for this scoping opportunity. If the comment period ends on a Saturday, Sunday, or Federal holiday, comments will be accepted until the end of the next Federal working day (11:59 p.m.). The POW LLA Project is an activity implementing the forest plan and is subject to 36 CFR 218, Subparts A and B. Only individuals or entities who submit timely and specific written comments about this proposed project or activity during this or another public comment period established by the Responsible Official will be eligible to file an objection. Comments submitted previously will be considered in the analysis. The Draft Environmental Impact Statement is expected in January of 2018 and the Final Environmental Impact Statement is expected in July of 2018.

ADDRESSES: Send written comments to Thorne Bay Ranger District, at P.O. Box 19001, Thorne Bay, AK 99919. Comments may also be submitted electronically at https://cara.ecosystem-management.org/Public/CommentInput?project=50337, or via facsimile to (907) 828-3309.

FOR FURTHER INFORMATION CONTACT: Matthew Anderson, District Ranger, Craig and Thorne Bay Ranger Districts, at 504 9th Street, Craig, AK 99921, by telephone at (907) 826-3271; or Delilah Brigham, Project Leader, at 1312 Federal Way, Thorne Bay, AK 99919, by telephone at (907) 828-3232.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the POW LLA Project is to improve forest ecosystem health on Craig and Thorne Bay Ranger Districts, help support community resiliency, and provide economic development through an integrated approach to meet multiple resource objectives.

There is a need to provide a sustainable level of forest products to contribute to the economic viability of Prince of Wales communities. There is also a need to help maintain the expertise and infrastructure of the timber industry to integrate timber harvest with restoration opportunities in a sustainable manner that meets multiple economic, forest, and watershed objectives.

There is a need for young-growth forests to produce future desired resource values, products, services, and forest health conditions that sustain the diversity and productivity of forested ecosystems. Timber stand establishment and timber stand improvement activities (such as planting and precommercial thinning) that enhance early seral forests are necessary to achieve this.

There is a need for restoration activities in some watersheds to reestablish self-sustaining habitats that promote viable fish, wildlife, and plant populations. This would contribute to subsistence values and the continued traditional and cultural uses by residents of Prince of Wales and surrounding islands.

There is a need to maintain existing recreation opportunities on POW and surrounding islands for residents, as well as to expand opportunities for growth in the recreation and tourism business sector. A sustainable recreation program in terms of operations and maintenance is needed in order to maintain infrastructure to an acceptable level.

There is a need to support improved telecommunications in local communities.

Proposed Action

The proposed action was developed with input from an independently-formed, broadly-based collaborative group as well as from public comments. During initial scoping and through this collaborative process, the Forest Service received suggestions for a wide array of site-specific projects and management strategies. The projects and management strategies fell within four broad categories: Vegetation management, watershed improvement and restoration, sustainable recreation management, and associated actions. For both the proposed action and other action alternatives, the Forest Service is developing “Activity Cards” that present potential activities being considered within the project area, though without specific locations. These are meant to describe major aspects of an activity and provide initial guidelines on how it would be implemented, and can be viewed on the project Web page (see Scoping Process section below for web address). Each ground-disturbing activity discussed below in this proposed action, and following in potential alternatives, has an activity card corresponding to that activity, whether site-specific or not. Activity cards should be reviewed for more information on land management activities.

Vegetation Management

Vegetation management activities include: Old-growth commercial harvest, young-growth commercial harvest, young-growth precommercial thinning treatments, timber stand establishment (e.g., tree seedling planting), and wildlife habitat improvement treatments.

The Forest Service proposes to commercially harvest an average of 25 MMBF (million board feet; volume measurement) of old-growth timber annually from suitable timber lands within the project area during the first 5 years of implementation (years 2019 through 2023), and an average of 15 MMBF of old-growth timber annually during the next five year period (years 2024 through 2028). In year 2029, 10 years after initial implementation, an evaluation of availability of old-growth timber within the project area would occur before additional old-growth harvest levels would be set, to ensure there will be harvestable old-growth timber available for local mills beyond the 15-year timeline of this project.

The Forest Service proposes to commercially harvest from suitable lands, as defined under the 2016 Tongass Land and Resource Management Plan Ammendment, an average of 8 MMBF annually of young growth over a five-year period beginning in year 2022 and ending in 2026. In year 2027, the young-growth harvest level would be advanced to an average of 15 MMBF annually through year 2031. Young growth harvested under this proposal would occur in stands that generally have not reached 95 percent of culmination of mean annual increment. Stands proposed for rotational harvest (even-aged and two-aged management) will, however, have generally reached a level of growth where at least 50 percent of the total volume occurs in trees with a merchantable height suitable to produce two 36-foot logs.

The Forest Service would take into consideration various projects and strategies that were proposed through public input including: Limit old-growth harvest around communities to maintain deer habitat and winter range, prioritize young-growth treatments to promote deer habitat, and maintain existing and create new wildlife travelways and wildlife trees for a variety of wildlife species.

Commercial harvests would utilize various prescriptions and logging systems, and would provide material to local mill operators through large sale, small sale, salvage sale, and microsale programs. Harvested trees would generally be removed without the limbs and tops attached. However, the limbs, tops, and cull material could potentially be utilized as biomass, or other products.

The Forest Service proposes to precommercially thin approximately 4,500 acres of young-growth stands annually utilizing various prescriptions to achieve desired conditions for the stands. The Forest Service would take into consideration prioritizing young-growth treatments in high-value deer winter habitat (south facing low-elevation stands). Slash treatments could occur in stands that are thinned for wildlife habitat improvement objectives.

The Forest Service may interplant tree seedlings within selected harvest units to enhance species composition if post-harvest evaluation determines that artificial reforestation is beneficial. Seed may be sourced by cone collection, for the purposes of tree seedling generation. The Forest Service would consider establishing or encouraging native plant nurseries that can produce seedlings and other native plant materials for reforestation, reclamation, and habitat improvement projects.

Watershed Improvement and Restoration Treatments

Proposed watershed improvement and restoration activities on National Forest System land within the project area include: Fish habitat restoration, fish habitat improvements, aquatic organism passage and fish habitat connectivity, karst systems improvement, and invasive plant management.

Fish Habitat Restoration: The Forest Service proposes to utilize various treatment options to restore hydrologic function in fish streams or lakes that may include the following: 108 Creek, 142F Creek, Alder Creek, Big Salt Lake, Buster Creek, Camp Creek, Chuck Creek, Coffman Creek, Deer Creek, Dog (Chum) Creek, Dolores Creek, Eagle Creek, Flicker Creek, Hatchery Creek, Hydaburg River, Inlet Creek, Klawock Lake, Logjam Creek, Luck Lake, Maybeso Creek, Port Saint Nicholas Creek, Ratz Creek, Red Bay Creek, Reynolds Creek, Rio Beaver, Sal Creek, Salt Chuck, Saltery Creek, Shaheen Creek, Slide Creek, Slow Creek, Snug Creek, Thorne River, Turn Creek, and Yatuk Creek, as well as complete restoration treatments on Harris River, Staney Creek, and Twelvemile Arm. Other streams that have not been listed may be considered for restoration if the Forest Service determines that the fish habitat and or hydrological condition have degraded due to past management practices. The Forest Service would consider opportunities for interpretive signs within restored watersheds for public education.

Fisheries Habitat Improvement: The Forest Service proposes to enact various methods to improve fish habitat in the following lakes and streams: Control Creek/Balls Lake, Devil Lake, Eek Lake, Hessa Lake, Hunter Lake, Karta River, Klekas Lake, Little Klekas Lake, Manhattan Creek, Nichols Lake, Rio Roberts, Sarkar Creek, and Welcome Lake.

Aquatic Organism Passage and Fish Habitat Connectivity: Stream-crossings within the project area that do not allow for fish and aquatic organism passage at all flows, referred to as “red pipes,” would be replaced with appropriate structures or removed with other road restoration treatments.

Karst Systems Improvement: Karst systems that have been impacted from past management would be improved by removing blockages to restore natural water flows into karst features. Young-growth stands adjacent to impaired karst systems may be thinned to increase precipitation throughfall to increase spring flow and to flush accumulated sediment.

Invasive Plant Management: The Forest Service proposes to utilize manual and mechanical treatments, as part of an integrated pest management approach, to eradicate or control existing and new infestations of non-native, invasive plants.

Sustainable Recreation Management

Proposed recreation activities on National Forest System lands include maintenance of all existing recreation facilities, as well as improvements to some existing facilities and construction of new facilities. Proposals received through public comment included cabins and three-sided shelters; a variety of trails; campsites and campgrounds; access and enhancements for kayaking, canoeing, and boating; creating interpretive sites; creating winter recreation opportunities; day use sites; and further development of existing recreation areas. Outhouse facilities may be necessary to accompany certain proposed recreation sites. A wide array of locations were suggested; the proposed action is not limited to but will consider the following locations associated with these activities.

Three-sided shelters and/or cabins were proposed at or near Canoe Point, the Palisades, Fern Point, Point Gertrudis, Eagle Island in Sea Otter Sound, near Hydaburg, near South POW Wilderness, Mable Bay, Jackson Island, Hunter's Bay, the log transfer facility in Port Refugio, Sal Creek, Cape Ulitka, Little Vera Beach, Arena Cove, and in an alpine area for winter recreation.

Trails proposed included walking, hiking, bicycling, mountain biking, for off-highway vehicle use, and interpretive, and may be new trails or improvements to existing ones. The locations suggested are Luck Creek; Honker Divide Trail; Harris River trail system including connecting Gandláay Háanaa Creek and Harris River interpretive sites, and a hut-to-hut trail system; Deweyville; Rio Beaver (also known as 8 ½ mile Thorne Bay Road); Rio Roberts Fish Pass; Sunnahae; Sarkar canoe route and portages; Suemez Island; “Rabbit Ears—ORV Trail” near Coffman Cove; from Roller Bay to Cape Ulitka; from Port San Antonio to Little Vera Beach; from Port Refugio to Arena Cove; through old-growth forests; and along roads that can be converted to trails.

Campsites were suggested around Luck Lake, and a campground with RV parking was suggested for near the community of Hydaburg. The comments to develop sea kayak routes also included developing access points for canoes and kayaks at both fresh and saltwater locations. Comments for new boat launches and/or docks to enhance saltwater access included Calder Bay, Port Refugio, and Port San Antonio. There was a suggestion to improve signage and maintenance of the Salt Chuck Mine site, and interest in creating an archaeology kiosk and interpretive site. Winter recreation opportunities with access to the snow line were suggested for Upper Steelhead, One Duck, Barron Mountain, Baird Peak, Sunnahae, West Ridge near Polk Inlet, ridge lines east of the North Thorne drainage, and near Control Lake. A picnic day-use area was proposed for near Neck Lake.

Existing recreation areas were proposed for further development, improvement, and/or maintenance, as follows. The El Capitan area could be developed further to include a cabin, day use area, and campground, and improvements could be made to the dock, boat ramp, and at the marine transfer facility or “spit” area. Ratz Harbor area improvements could include a high-water ramp or boat launch, picnic area, primitive camp site, or a three-sided shelter. The Memorial Beach area could be improved with better signage and a loop trail through the old-growth forest to the east. It was requested that the Karta Cabin and trail receive more maintenance. The greater Control Lake area, including Control Lake Cabin, Balls Lake, Eagles Nest Campground, and the Cutthroat Road could be expanded and better connected as a recreational complex.

Finally, to support input from local youth, the Forest Service would entertain proposals to permit a day use area on the island for uses such as paint ball, archery, and other youth activities.

Associated Actions

A number of activities associated with implementing the various proposed management activities would be necessary, in addition to some associated actions which were proposed through public input and comments. Associated actions were divided into two categories: Infrastructure actions and non-infrastructure actions. Infrastructure actions include: Road maintenance and use; management of system and temporary roads, including construction, maintainance, and potentially storage or decommissioning after project implementation (potential maintenance level changes may occur); use and development of new and existing rock pits (for both road needs and personal use); reconstruction and maintenance of marine access facilities and log transfer facilities; and infrastructure to access and establish telecommunication sites. Non-infrastructure actions include: Site preparation, hazard tree removal, wildlife-proof garbage can installation and maintenance, brushing and brush disposal, and viewshed improvement.

Possible Alternatives

Other alternatives will be more fully developed based on public comments received to the original NOI published November 30, 2016, from public comments received to this Corrected NOI, and from internal Forest Service considerations. For example, alternatives may include decommissioning recreation infrastructure that are expensive to maintain and receive minimal use to match maintenance capacity; a low range of old-growth harvest may be designed to support the local small-mill industry; treatments such as prescribed burning to improve understory for wildlife; an integrated pest management strategy that includes the use of herbicides for treatment of non-native, invasive plants; restrictions on vegetation treatments (logging) north of Forest Road 20 and in the vicinity of Point Baker and Port Protection to preserve watershed, visual, and other values on the north end of POW; and incorporation of actions recommended in the “Interagency Wolf Habitat Management Program” plan for Game Management Unit 2 (https://www.fs.usda.gov/Internet/FSE_DOCUMENTS/fseprd537975.pdf). In addition, early youth engagement in this process identified several potential recreation related ideas which may be incorporated into one or all of the action alternatives if possible. A no-action alternative, which represents no change and serves as the baseline for the comparison among the action alternatives, will be analyzed as well. Comments we receive to this Corrected NOI may identify additional alternative components.

Responsible Official

The Responsible Official for the decision on this project is M. Earl Stewart, Forest Supervisor, Tongass National Forest, Federal Building, 648 Mission Street, Ketchikan, Alaska, 99901.

Nature of Decision To Be Made

Given the purpose and need of the project, the Forest Supervisor will review the no action, the proposed action, other alternatives, and the environmental consequences in order to make decisions including the following: (1) Whether to select the proposed action or another alternative; (2) the locations, design, and scheduling of commercial and precommercial timber treatments, restoration activities, habitat improvements, road construction and reconstruction, and improvements to recreation opportunities; (3) mitigation measures and monitoring requirements; and (4) whether there may be a significant restriction of subsistence uses. No Forest Plan Amendments are anticipated with this decision.

Permits or Licenses Required

All necessary permits would be obtained prior to project implementation, and may include the following:

(1) State of Alaska, Department of Environmental Conservation (DEC), Alaska Pollutant Discharge Elimination System (APDES):

• General permit for Log Transfer Facilities in Alaska;

• Review Spill Prevention Control and Countermeasure Plan;

• Certification of Compliance with Alaska Water Quality Standards (401 Certification) Chapter 20;

• Storm Water Discharge Permit/National Pollutant Discharge Elimination System review (Section 402 of the Clean Water Act);

• Solid Waste Disposal Permit;

(2) U.S. Army Corp of Engineers:

• Approval of discharge of dredged or fill material into the waters of the United States under Section 404 of the Clean Water Act;

• Approval of the construction of structures or work in navigable waters of the United States under Section 10 of the Rivers and Harbors Act of 1899;

(3) State of Alaska, Division of Natural Resources (DNR):

• Authorization for occupancy and use of tidelands and submerged lands.

(4) State of Alaska, Department of Fish and Game (ADF&G)

• Fish Habitat Permit and Concurrence (Title 16)

Scoping Process

This Corrected Notice of Intent initiates a scoping period, which guides additional development of the environmental impact statement. The Forest Service will be seeking information, comments, and assistance from Tribal Governments; Federal, State, and local agencies; and individuals and organizations interested in or affected by the proposed activities. There will also be ample public involvement on Prince of Wales Island, including: public meetings held in various communities, subsistence hearings, information posted in public places and in local publications such as the Island Post, and from the Prince of Wales Landscape Assessment Team, a collaborative group independently formed to provide widely based proposals to be considered by the U.S. Forest Service in the POW LLA Project development and analysis process. Project information and updates, meeting notices, and documents will be provided throughout the process on the project Web page at http://www.fs.usda.gov/goto/tongass/powlla. Individuals may also provide comments and sign up for an electronic mailing list at that site.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: June 15, 2017.
Cynthia D. West,
Acting Associate Deputy Chief, National Forest System.

[FR Doc. 2017-14138 Filed 7-5-17; 8:45 am]

BILLING CODE 3411-15-P